DEPARTMENT OF EDUCATION

Applications for New Awards; Office of Indian Education Formula Grants to Local Educational Agencies and Tribes

AGENCY: Office of Elementary and Secondary Education, Department of Education.

ACTION: Notice.

SUMMARY: The Department of Education (Department) is issuing a notice inviting applications for new awards for fiscal year (FY) 2026 for Office of Indian Education (OIE) Formula Grants to Local Educational Agencies (LEAs) and Tribes (Formula Grants).

DATES:

Electronic Application System for Indian Education (EASIE) transmittal deadlines:

Part I Open: February 2, 2026.

Part I Closes: March 6, 2026, 11:59 p.m., Eastern Time.

Part II Open: March 30, 2026.

Part II Closes: May 11, 2026, 11:59 p.m., Eastern Time.

FOR FURTHER INFORMATION CONTACT: Donna Bussell, U.S. Department of Education, 400 Maryland Avenue SW, Washington, DC 20202-6335. Telephone: (202) 987-0204. Email: donna.bussell@ed.gov.

For technical questions, contact the Partner Support Center (PSC). Telephone: 877-457-3336. Email: OIE.EASIE@ed.gov.

If you are deaf, hard of hearing, or have a speech disability and wish to access telecommunications relay services, please dial 7-1-1.

SUPPLEMENTARY INFORMATION:

Full Text of Announcement

Note: To be eligible for a Formula Grant, all applicants must submit all required documentation described under Content and Form of Application Submission in section IV of this notice before the EASIE Part I and Part II transmittal deadlines.

I. Funding Opportunity Description

Purpose of Program: The Formula Grants program provides support to LEAs and Indian Tribes in developing elementary school and secondary school programs for all Indian students. Program funding must be used to support comprehensive programs that are designed to meet cultural, language, and academic needs of Indian students and ensure they meet State academic standards. LEAs must develop projects with the participation and written approval of an Indian Parent Committee (IPC) and develop meaningful consultation and ongoing collaboration with nearby Indian Tribes.

Assistance Listing Number (ALN): 84.060A.

OMB Control Number: 1810-002.

Table 1 outlines the required assurances for each proposed project. These assurances must be developed through open consultation and active participation with stakeholders, include written approval from the Indian Parent Committee, undergo review by the State Education Agency. Additionally, Table 1 identifies the Local Education Agencies (LEAs) that are required to meaningful collaborate with Tribes and those who also must consult with Tribes.

Table 1—Stakeholder Engagement Requirements
Elementary and Secondary Education Act (ESEA) requirement | Stakeholders involved | Applicable eligible entity
Proposed projects must be developed by the LEA in open consultation including public hearings (ESEA section 6114(c)(3)) | • Parents of Indian children; • Teachers of Indian children; • Tribal representatives within 50 miles of schools with enrolled Tribal children; • Indian organizations; and • Indian students from secondary schools (if appropriate) • Must provide stakeholders a full opportunity to understand the program and offer recommendations. | All Applicants.
Proposed projects must be developed with the participation and have written approval of a committee (ESEA section 6114(c)(4)) | Indian Parent Committee Approval • Parents and family members of Indian children (must be majority of the committee); • Tribal representatives within 50 miles of schools with enrolled children from the Indian Tribe; • Teachers in the schools; and • Indian students from secondary schools (if appropriate) | LEA applicants only.
Proposed projects must be developed with the review of the State Education Agency (SEA) Review, (ESEA section 6119) | • Before submitting an application to the Department, LEA applicants shall submit a copy the application to the SEA for review; • SEA may comment on application; and • If the SEA comments, the SEA shall provide LEAs with an opportunity to respond; | LEA applicants only.

Integration of Services Authorized: As authorized under ESEA section 6116, the Secretary will, upon receipt of an acceptable plan for the integration of education and related services, and in cooperation with Federal agencies, authorize the entity receiving the funds under this program to consolidate all Federal funds that are to be used exclusively for Indian students. Instructions for submitting an integration of education and related services plan are described under Application and Submission Information in section IV of this notice.

Definitions: The following definitions apply to this application period. The definition of “Indian” is from ESEA section 6151(3). The definition of “Indian Community-Based Organization” is from ESEA section 6112(d)(3).

Indian means an individual who is:

(1) a member of an Indian Tribe or band, as membership is defined by the Tribe or band, including—

(a) any Tribe or band terminated since 1940; and

(b) any tribe or band recognized by the State in which the tribe or band resides;

(2) a descendant, in the first or second degree, of an individual described in subparagraph (a);

(3) considered by the Secretary of the Interior to be an Indian for any purpose;

(4) an Eskimo, Aleut, or other Alaska Native; or

(5) a member of an organized Indian group that received a grant under the Indian Education Act of 1988 as in effect the day preceding the date of enactment of the Improving America's Schools Act of 1994.

Indian Community-Based Organization (ICBO) means any organization that—

(1) is composed primarily of Indian parents, family members, and community members, Tribal government education officials, and Tribal members, from a specific community;

(2) assists in the social, cultural, and educational development of Indians in such community;

(3) meets the unique cultural, language, and academic needs of Indian students; and

(4) demonstrates organizational and administrative capacity to manage the grant.

Statutory Hiring Preference: All formula grants are subject to the Indian Self-Determination and Education Assistance Act (ISDEAA), section 7(b) of ISDEAA (25 U.S.C. 5307(b)) requires any contract, subcontract, or grant for the benefit of Indians, shall to the greatest extent feasible—

(1) give preferences and opportunities for training and employment in connection with the administration of such contracts or grants to Indians; and

(2) give preference in the award of subcontracts in connection with the administration of such contracts or grants to Indian Organizations and to Indian-owned economic enterprises as defined in section 3 of the Indian Financing Act of 1974 (25 U.S.C. 1452(e)).

For purposes of this requirement, “Indian” is defined under 25 U.S.C. 1452(b).

Program Authority: 20 U.S.C. 7421, et seq.

Note: Projects will be awarded and must be operated in a manner consistent with the nondiscrimination requirements contained in Federal civil rights laws.

Applicable Regulations: (a) The Education Department General Administrative Regulations in 34 CFR parts 75, 77, 81, 82, 84, 97, 98, and 99. (b) The Office of Management and Budget Guidelines to Agencies on Governmentwide Debarment and Suspension (Non-procurement) in 2 CFR part 180, as adopted and amended as regulations of the Department in 2 CFR part 3485. (c) The Guidance for Federal Financial Assistance in 2 CFR part 200, as adopted and amended as regulations of the Department in 2 CFR part 3474.

II. Award Information

Type of Award: Formula grants.

Estimated Available Funds: The Administration requested $110,381,000 for the Formula Grants program for FY 2026. The actual level of funding, if any, depends on final congressional action. However, we are inviting applications to allow enough time to complete the grant process if Congress appropriates funds for this program.

Estimated Range of Awards: $4,000 to $2,400,000.

Estimated Average Size of Awards: $85,000.

Estimated Number of Awards: 1,250.

Note: The Department is not bound by any estimates in this notice.

Project Period: 12 months.

III. Eligibility Information

1. Eligible Applicants: Entities eligible under this program include certain LEAs (including charter schools authorized as LEAs under State law), BIE-funded schools, Tribes and Tribal organizations, ICBOs, and consortia of two or more eligible entities, as prescribed by ESEA sections 6112-6113. See Table 2 for detailed eligibility requirements by entity type. Applicants can confirm their eligibility in Part I of the EASIE application.

Table 2—Eligible Applicants
ESEA requirement | Eligible entity | Requirements for consideration of entity
ESEA section 6112(a)(1) | Local Educational Agencies (LEAs) | • Must develop application with participation and written approval of an Indian Parent Committee (IPC). • Charter schools authorized as LEAs under State law are eligible.
|  | • For an LEA that selects a schoolwide application, identify how the use of such funds in a schoolwide program will produce benefits to Indian students that would not be achieved if the funds were not used in a schoolwide program (ESEA section 6115(c)(3));
ESEA section 6112(a)(2) | Indian Tribes | • May apply in lieu of an LEA, if the LEA does not establish an IPC. • Must represent more than 50 percent of the eligible Indian children who are served by the LEA.
|  | • Not required to maintain an IPC. (ESEA section 6114 (c)(4)).
|  | • Not required to describe process used to meaningfully collaborate with Indian Tribes. (ESEA section 6114 (b)(7)).
|  | • Not subject to Maintenance of Effort (MOE) requirements.
|  | • Not subject to SEA review requirements.
|  | • Must provide assurance that the Indian Tribe will use grant funds to provide services to all Indian students in the LEA.
ESEA section 6112(a)(3) | Indian Organizations (IOs) | • May apply in lieu of an LEA, if the LEA does not establish an Indian Parent Committee (IPC). • Must represent more than 50 percent of the eligible Indian children who are served by the LEA.
|  | • Not required to maintain an IPC.
|  | • Not required to describe process used to meaningfully collaborate with Indian Tribes.
|  | • Not subject to Maintenance of Effort (MOE) requirements.
|  | • Not subject to SEA review requirements.
|  | • Must provide assurance that the Indian Organization will use grant funds to provide services to all Indian students in the LEA.
ESEA section 6112(a)(4) | Consortia of two or more LEAs, Indian Tribes, Indian Organizations, or Indian Community-Based Organizations | • Provide an assurance that the eligible Indian children served by the LEA will receive the services of the programs funded; and • Consortia is subject to all the requirements, assurances, and obligations applicable to LEAs. • Participating Indian Tribes and Indian Organizations are not subject to SEA review requirements.
ESEA section 6112(a)(5) | Indian Community-Based Organizations (ICBOs) | • Cannot apply if an LEA, Indian Tribe, or a consortia of LEAs or Indian Tribes apply on behalf of the particular community. • Provide an assurance that the eligible Indian children served by the ICBO will receive the services of the programs funded; and
|  | • Not required to maintain an IPC.
|  | • Not required to describe process used to meaningfully collaborate with Indian Tribes.
|  | • Not subject Maintenance of Effort (MOE) requirements.
ESEA section 6113(d) | Bureau of Indian Education (BIE) Schools | • Must be a BIE operated school; or • Must be a Tribally controlled school under the Indian Self-Determination Act or the Tribally Controlled Schools Act of 1988 (Pub. L. 100-297).

2. a. Cost Sharing or Matching: This program does not require cost sharing or matching.

b. Supplement Not Supplant: ESEA section 6114(c)(1) requires an LEA to use these grant funds only to supplement the funds that, in the absence of these Federal funds, such agency would make available for services described in this application, and not to supplant such funds.

c. Indirect Cost Rate Information: This program uses a restricted indirect cost rate. For more information regarding restricted indirect costs, or to obtain a negotiated restricted indirect cost rate, please see: https://www.ed.gov/about/ed-offices/ofo/ocfos-financial-improvement-post-audit-operations.

d. Administrative Cost Limitation: Under ESEA section 6115(d), no more than five percent of funds awarded for a grant under this program may be used for administrative purposes. Note that, since fiscal year 2020, Congress has included language in appropriations acts to specify that the statutory 5 percent limit does not include indirect costs. In the event such language is not included in the FY 2026 appropriations act, the Department will work with successful applicants to make budget adjustments to align with administrative cost restrictions, if necessary.

IV. Application and Submission Information

1. How to Request an Application Package: You can obtain an entity-specific link for EASIE by contacting PSC listed under FOR FURTHER INFORMATION CONTACT.

Upon request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

2. Content and Form of Application Submission: Application requirements such as agreements, forms, and technical assistance resources are located on the EASIE Communities of Practice website at https://easie.communities.ed.gov/.

Note: The Department will provide support to applicants with accessing, navigating, and entering data and submitting their responses into https://www.connect.gov/. Prior to the opening of EASIE Part I, this documentation will be announced and posted on the EASIE Communities of Practice website at: https://easie.communities.ed.gov/.

Applicants will be provided an entity-specific link (also known as a token) to access EASIE via https://www.connect.gov/. Only individuals that are registered as the current Point of Contact (POC), Project Director (PD), or Authorized Official Representative (AOR) will receive the entity-specific link to access the application for EASIE Parts I and II.

Supplementary Documentation: EASIE requires submission of the following supplementary documentation in electronic Portable Document Format (PDF):

(1) Applicants that are applying as Indian Tribes, IOs, or ICBOs must submit the “Applying in Lieu of the LEA” agreement form with their application to verify their eligibility no later than the EASIE Part I close date. The evidence of eligibility forms are available on the EASIE Communities of Practice website (https://easie.communities.ed.gov/) as downloadable documents.

(2) Consortia applicants, specifically the lead applicant, must submit a consortium agreement no later than the EASIE Part I close date.

(3) LEA applicants, including LEA consortia applicants, must submit an Indian Parent Committee Approval form no later than the EASIE Part II close date.

3. Submission Dates and Times:

EASIE transmittal deadlines:

Part I Opens: February 2, 2026.

Part I Closes: March 6, 2026, 11:59 p.m., Eastern Time.

Part II Opens: March 30, 2026.

Part II Closes: May 11, 2026, 11:59 p.m., Eastern Time.

For information about how to submit your application, please refer to Other Submission Requirements in section IV of this notice. Individuals with disabilities who need accommodation or auxiliary aid in connection with the application process should contact the person listed under FOR FURTHER INFORMATION CONTACT. If the Department provides accommodation or auxiliary aid to an individual with a disability in connection with the application process, the individual's application remains subject to all other requirements and limitations in this notice.

4. Intergovernmental Review: This program is not subject to Executive Order 12372 and the regulations in 34 CFR part 79.

5. Unique Entity Identification (UEI) Number, Taxpayer Identification Number, and System for Award Management: To do business with the Department, you must—

a. Have a Unique Entity Identification (UEI) number and a Taxpayer Identification Number (TIN);

b. Register both your UEI number and TIN with the System for Award Management (SAM), the Government's primary registrant database;

c. Provide your UEI number and TIN on your SAM application; and

d. Maintain an active SAM registration with current information while your application is under review by the Department and, if you are awarded a grant, during the project period.

You can obtain a UEI number from SAM.gov at the following website: https://sam.gov/. A UEI number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days but may take upwards of several weeks. Applicants should allow sufficient time to obtain and register your UEI number and TIN.

If you are currently registered with SAM, you may not need to make any changes. However, please make certain that the TIN associated with your UEI number is correct. Also note that you will need to update your registration annually. This may take three or more business days.

Information about SAM is available at https://sam.gov/. To further assist you with obtaining and registering your UEI number and TIN in SAM or updating your existing SAM account, we have prepared a SAM.gov Tip Sheet, which you can find here: https://sam.gov/content/duns-uei.

Other Submission Requirements:

Electronic Submission of Applications

EASIE is an electronic application within Connect.gov that users access via an entity-specific link or “token” is divided into two parts: EASIE Part I (Indian Student Count) and EASIE Part II (Project Design and Budget). All applicants must document eligible Indian students during the count period and ensure that all individual data collected shall be protected and only aggregate data shall be reported to the Department. See Table 3 and Table 4 for more information about the type of information that is required in EASIE Part I and EASIE Part II, respectively.

Table 3—EASIE Part I: Student Count and Eligibility
ESEA requirement | Requirement element | Requirement description
ESEA section 6117(b) | Indian Student Eligibility Certification Form (ED 506) | • Name of the Indian Tribe to which the child claims membership; or • Name of the parent or grandparent of the child from whom the child claims eligibility, if the child is not a member of the Indian Tribe. • Notation that the Indian Tribe claimed is federally recognized.
|  | • Name and address of the parent or legal guardian.
|  | • Signature of parent or legal guardian to verify the accuracy of the information.
ESEA section 6117(d) | Types of Proof | • If enrollment numbers are not available, eligibility may be established by proof other than an enrollment number from the Tribe. • Duplicate forms are prohibited, once an Indian child is determined eligible, the form shall follow the Indian child and each LEA shall maintain a record of determination.
ESEA section 6117(f) | BIE Schools | • BIE schools may use their most current Indian Student Equalization Program (ISEP) count; or • A count that complies with the requirements of the ED 506 Form.
ESEA section 6117(g) | Timing of the Indian Student Count (ISC) | • Establish 31 consecutive days “ISC count period” which the applicant will count Indian children before the close of Part I. • Determine that each counted Indian child was enrolled at least one day during such ISC count period.

In EASIE Part II, all applicants will be prompted to select the type of program being submitted: regular formula grant project, a schoolwide program, or integration of services. Applicants must design a comprehensive program as outlined in Table 4 below:

Table 4—EASIE Part II: Project Design and Budget
ESEA requirement | Requirement element | Requirement description
ESEA section 6114 | Comprehensive Program Required | • Describe how the program will offer activities to meet culturally related academic needs of Indian students. • Align with State, Tribal, and Local plans funded under the ESEA. • Include project objectives and outcomes for activities based on State academic standards. • Explain how funds will be used to supplement and coordinate with other federal, state, and local programs. • Demonstrate how funds will be used for authorized services and activities.
|  | • Describe the professional development that will be provided to ensure that all teachers and other school professionals are prepared to work with Indian children and are properly trained.
|  | • Describe how the LEA will periodically assess the program of all Indian children, including Indian children who do not participate in the project. Further, how the LEA will provide the results of each assessment to the IPC and Indian Tribes consistent with the Family Educational Rights and Privacy Act (FERPA).
|  | • Describe the process to meaningfully collaborate with Indian Tribes in a timely, active, and ongoing manner in developing the comprehensive program and the actions taken as a result of the collaboration.
ESEA section 6115(b) | Authorized Services and Activities | • Activities that support Native American Language programs and restoration programs may be taught by traditional leaders. • Culturally related activities that support the project design. • Early childhood and family programs that emphasize school readiness.
|  | • Enrichment programs that focus on problem solving and cognitive skill development.
|  | • Promotion of parental involvement in school activities.
|  | • Career preparation activities such as tech-prep education, mentoring, and apprenticeship.
|  | • Prevention of violence, suicide, and substance abuse.
|  | • Acquisition of equipment, only if the acquisition is essential to achieve the purpose of meeting the unique cultural, language, and educational needs of Indian students.
|  | • Activities that promote the incorporation of culturally responsive teaching and learning.
|  | • Family literacy services.
|  | • Incorporate appropriately qualified tribal elders and seniors.
|  | • Dropout prevention strategies.
|  | • Strategies to meet the education needs of at-risk Indian students in correctional facilities, including transferring from such facilities.
ESEA section 6115(c) | Schoolwide Programs | • LEA may use funds to support a schoolwide program if the IPC approves; is consistent with the purpose of the Indian Education formula program; and the LEA identifies in the application how the use of funds will produce benefits to Indian children that would not be achieved if not used in a schoolwide program.
ESEA section 6115(e) | Long-distance Travel Prohibited | • Funds may not be used for long-distance travel expenses for training activities that are available locally or regionally.
General Education Provisions Act (GEPA) 20 U.S.C. § 1228a | Equal Access to Overcome Barriers | • Project will ensure access to and participation in activities that address the unique cultural, language, and educational needs of Indian students, teachers, and other program beneficiaries as defined in the Elementary and Secondary Education Act (ESEA) as amended.

Registration for Formula Grant EASIE: All applicants interested in submitting a Formula Grant application must register for EASIE. Prior to the opening of EASIE Part I, PSC will send a broadcast to prior year grantees and new prospective applicants that have contacted PSC and registered for EASIE. All recipients who receive PSC's broadcast will be asked to complete their intent to apply for the upcoming application period in the EASIE Portal. All applicants will be provided the opportunity to confirm if any updates to their registration information are necessary, or if they would like to decline registration. Entities that do not have an active registration or are new applicants should contact the PSC listed under FOR FURTHER INFORMATION CONTACT to register any time before the EASIE Part I application transmittal deadline. Registration does not serve as the entity's grant application. For assistance registering, contact the PSC listed under FOR FURTHER INFORMATION CONTACT.

Certification for Formula Grant EASIE: The Authorized Official Representative (AOR) must certify EASIE Parts I and II by the respective deadlines. Each applicant should identify at least three system users, one for each of the following: Project Director, AOR, and another party (such as a Budget Director) designated to answer questions in the event the project director is unavailable. The certification process ensures that the information in the application is true, reliable, and valid. An applicant that provides a false statement in the application is subject to penalties under the False Claims Act, 18 U.S.C. 1001.

V. Grant Administration Information

1. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

2. Administrative and National Policy Requirements: We identify administrative and national policy requirements in the application package and reference these and other requirements in the Applicable Regulations section of this notice.

We reference the regulations outlining the terms and conditions of a grant in the Applicable Regulations section of this notice and include these and other specific conditions in the Grant Award Notification (GAN). The GAN also incorporates your approved application as part of your binding commitments under the grant.

3. Reporting: (a) If you apply for a grant under this program, you must ensure that you have in place the necessary processes and systems to comply with the reporting requirements in 2 CFR part 170 should you receive funding. This does not apply if you have an exception under 2 CFR 170.110(b).

(b) You must submit a final annual performance report (APR) using EASIE, including financial information, as directed by the Secretary, within 120 days after the close of the grant year. Grantees will be able to access the APR via EASIE prior to the system being open to users. Grantees will receive an email from the PSC identifying the date that the APR will be available to grantees and the deadline for its transmission.

4. Performance Measures: For the purposes of Department reporting under 34 CFR 75.110, the Secretary has established the following key performance measures for assessing the effectiveness and efficiency of the Formula Grants program: (1) the percentage of AIAN students in grades four and eight who score at or above the basic level in reading on the National Assessment of Educational Progress (NAEP); (2) the percentage of AIAN students in grades four and eight who score at or above the basic level in mathematics on the NAEP; (3) the percentage of Indian students in grades three through eight meeting State achievement standards by scoring at or above the proficient level in reading and mathematics on State assessments; (4) the difference between the percentage of AIAN students in grades three through eight at or above the proficient level in reading and mathematics on State assessments and the percentage of all students scoring at those levels; and (5) the percentage of Indian students who graduate from high school as measured by the 4 year adjusted cohort graduation rate. The Department will report data for these measures from administrative data sources; grantees do not need to report data for these measures.

5. Integrity and Performance System: If you receive an award under this grant program that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through https://sam.gov/. You may review and comment on any information about yourself that a Federal agency previously entered and that is currently in FAPIIS.

Please note that if the total value of your currently active grants, cooperative agreements, and procurement contracts from the Federal Government exceeds $10,000,000, the requirements in 2 CFR part 200, Appendix XII, require you to report certain integrity information to FAPIIS semiannually. Please review the requirements in 2 CFR part 200, Appendix XII, if this grant plus all the other Federal funds you receive exceed $10,000,000.

VI. Other Information

Accessible Format: On request to the PSC listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is published in the Federal Register. You may access the official edition of the Federal Register and the Code of Federal Regulations at www.govinfo.gov. At this site, you can view this document, as well as other Department documents published in the Federal Register, in text or PDF. To use PDF, you must have Adobe Acrobat Reader, which is available free at the site.

You may also access Department documents published in the Federal Register by using the article search feature at: www.federalregister.gov.

Kirsten Baesler,
Assistant Secretary, Office of Elementary and Secondary Education.

[FR Doc. 2026-02178 Filed 2-2-26; 8:45 am]

BILLING CODE 4000-01-P